DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On February 11, 2021, OFAC determined that the property and interests in property subject to U.S. jurisdiction of the following persons are blocked under the relevant sanctions authority listed below.

Individuals

1. AUNG, Ye, Burma; DOB 08 Jun 1960; POB Chauk, Burma; Gender Male (individual) [BURMA-E.O.].

Designated pursuant to section 1(a)(iii)(A) of Executive Order of February 10, 2021, “Blocking Property With Respect To The Situation In Burma” (“the Order”) for being a foreign person who is or has been a leader of the military or security forces of Burma or any successor entity to any of the foregoing.

2. HLAING, Min Aung, Burma; DOB 03 Jul 1956; POB Dawei, Burma; Gender Male (individual) [GLOMAG] [BURMA-E.O.].

Designated pursuant to section 1(a)(iii)(A) of the Order for being a foreign person who is or has been a leader of the military or security forces of Burma or any successor entity to any of the foregoing.

3. HTUT, Soe, Burma; DOB 1960; Gender Male (individual) [BURMA-E.O.].

Designated pursuant to section 1(a)(iii)(A) of the Order for being a foreign person who is or has been a leader of the military or security forces of Burma or any successor entity to any of the foregoing.

4. SWE, Myint, Burma; DOB 24 May 1951; Gender Male (individual) [BURMA-E.O.].

Designated pursuant to section 1(a)(iii)(A) of the Order for being a foreign person who is or has been a leader of the military or security forces of Burma or any successor entity to any of the foregoing.

5. WIN, Soe, Burma; DOB 01 Mar 1960; Gender Male (individual) [GLOMAG] [BURMA-E.O.].

Designated pursuant to section 1(a)(iii)(A) of the Order for being a foreign person who is or has been a leader of the military or security forces of Burma or any successor entity to any of the foregoing.

6. WIN, Sein, Burma; DOB Jul 1956; POB Pyin Oo Lwin, Burma; Gender Male (individual) [BURMA-E.O.].

Designated pursuant to section 1(a)(iii)(A) of the Order for being a foreign person who is or has been a leader of the military or security forces of Burma or any successor entity to any of the foregoing.

7. DWE, Aung Lin (a.k.a. DWAY, Aung Lin), Burma; DOB 31 May 1962; Gender Male (individual) [BURMA-E.O.].

Designated pursuant to section 1(a)(iii)(A) of the Order for being a foreign person who is or has been a leader of the military or security forces of Burma or any successor entity to any of the foregoing.

8. OO, Mya Tun, Burma; DOB 04 May 1961; alt. DOB 05 May 1961; Gender Male (individual) [BURMA-E.O.].

Designated pursuant to section 1(a)(ii)(c)(i) of the Order for being a foreign person who is or has been a leader of the military or security forces of Burma or any successor entity to any of the foregoing.

9. OO, Ye Win, Burma; DOB 21 Feb 1966; Gender Male (individual) [BURMA-E.O.].

Designated pursuant to section 1(a)(iii)(A) of the Order for being a foreign person who is or has been a leader of the military or security forces of Burma or any successor entity to any of the foregoing.

10. SAN, Tin Aung, Burma; DOB 16 Oct 1960; Gender Male (individual) [BURMA-E.O.].

Designated pursuant to section 1(a)(iii)(A) of the Order for being a foreign person who is or has been a leader of the military or security forces of Burma or any successor entity to any of the foregoing.

Entities:

1. CANCRI GEMS & JEWELLERY CO., LTD. (a.k.a. CANCRI GEMS & JEWELLERY COMPANY LIMITED; a.k.a. CANCRI GEMS AND JEWELLERY CO., LTD.; a.k.a. CANCRI GEMS AND JEWELLERY COMPANY LIMITED; a.k.a. PHU SHA STAR), Burma; Company Number 113099127 (Burma) issued 24 Jul 2012 [BURMA-E.O.].

Designated pursuant to section 1(a)(vii) of the Order for being a foreign person that is owned or controlled by, or has acted or purported to act for or on behalf of, directly or indirectly, the military or security forces of Burma or any person whose property and interests in property are blocked pursuant to the Order.

2. MYANMAR IMPERIAL JADE CO., LTD. (a.k.a. MYANMAR IMPERIAL JADE GEMS & JEWELLERY CO., LTD.; a.k.a. MYANMAR IMPERIAL JADE GEMS & JEWELLERY COMPANY LIMITED; a.k.a. MYANMAR IMPERIAL JADE GEMS AND JEWELLERY CO., LTD.; a.k.a. MYANMAR IMPERIAL JADE GEMS AND JEWELLERY COMPANY LIMITED), Burma; Company Number 176227869 (Burma) issued 13 Sep 1996 [BURMA-E.O.].

Designated pursuant to section 1(a)(vii) of the Order for being a foreign person that is owned or controlled by, or has acted or purported to act for or on behalf of, directly or indirectly, the military or security forces of Burma or any person whose property and interests in property are blocked pursuant to the Order.

3. MYANMAR RUBY ENTERPRISE (a.k.a. MYANMAR RUBY ENTERPRISE GEMS & JEWELLERY CO., LTD.; a.k.a. MYANMAR RUBY ENTERPRISE GEMS & JEWELLERY COMPANY LIMITED; a.k.a. MYANMAR RUBY ENTERPRISE GEMS AND JEWELLERY CO., LTD.; a.k.a. MYANMAR RUBY ENTERPRISE GEMS AND JEWELLERY COMPANY LIMITED), Burma; Company Number 100941821 (Burma) issued 14 Feb 1996 [BURMA-E.O.].

Designated pursuant to section 1(a)(vii) of the Order for being a foreign person who is owned or controlled by, or has acted or purported to act for or on behalf of, directly or indirectly, the military or security forces of Burma or any person whose property and interests in property are blocked pursuant to the Order.

Dated: February 11, 2021.
Bradley T. Smith,
Acting Director, Office of Foreign Assets Control.

[FR Doc. 2021-04341 Filed 3-2-21; 8:45 am]

BILLING CODE 4810-AL-P